DEPARTMENT OF HEALTH AND HUMAN SERVICES

National Institutes of Health

Submission for OMB Review; 30-Day Comment Request: State and Community Tobacco Control Research Initiative Evaluation (NCI)

SUMMARY: Under the provisions of Section 3507(a)(1)(D) of the Paperwork Reduction Act of 1995, the National Institutes of Health (NIH), has submitted to the Office of Management and Budget (OMB) a request for review and approval of the information collection listed below. This proposed information collection was previously published in the Federal Register on June 6, 2014 (79 FR 32742) and allowed 60 days for public comment. One public comment was received. The purpose of this notice is to allow an additional 30 days for public comment. The National Cancer Institute (NCI), National Institutes of Health, may not conduct or sponsor, and the respondent is not required to respond to, an information collection that has been extended, revised, or implemented on or after October 1, 1995, unless it displays a currently valid OMB control number.

Direct Comments to OMB: Written comments and/or suggestions regarding the item(s) contained in this notice, especially regarding the estimated public burden and associated response time, should be directed to the: Office of Management and Budget, Office of Regulatory Affairs, OIRA_submission@omb.eop.gov or by fax to 202-395-6974, Attention: NIH Desk Officer.

Comment Due Date: Comments regarding this information collection are best assured of having their full effect if received within 30 days of the date of this publication.

FOR FURTHER INFORMATION CONTACT: To obtain a copy of the data collection plans and instruments or request more information on the proposed project contact: Elizabeth M. Ginexi, Ph.D., Tobacco Control Research Branch, Behavioral Research Program, Division of Cancer Control and Population Sciences, National Cancer Institute, 9609 Medical Center Drive, Room 3E564 MSC 9761, Bethesda, Maryland 20892-9761 or call non-toll-free number 240-276-6765 or email your request, including your address to: LGinexi@mail.nih.gov. Formal requests for additional plans and instruments must be requested in writing.

Proposed Collection: State and Community Tobacco Control Research Initiative Evaluation (SCTC), 0925-NEW, National Cancer Institute (NCI), National Institutes of Health (NIH).

Need and Use of Information Collection: The National Cancer Institute State and Community Tobacco Control Research Initiative is a program within the Tobacco Control Research Branch in the Behavioral Research Program of the Division of Cancer Control and Population Sciences. The program targets 4 high-priority tobacco control research areas at the state and community level in the United States: (1) Secondhand smoke policies, (2) Tobacco tax and pricing policies, (3) Mass media countermeasures and community and social norms, and (4) Tobacco industry practices. The initiative supports innovative research to yield rapid and actionable findings for state and community tobacco control programs. The purpose of the evaluation is to assess the dissemination, implementation, and community collaboration processes of the grantees and their respective state and community partners and stakeholders. The evaluation will utilize archival grant project data and archival data collected from the scientists in the first two years of the initiative. The evaluation also will collect new data to: (1) Determine relationships, interactions, and connectedness among different network partnerships over time and with policy makers; (2) assess the utility of research tools, interventions, products, and findings from the perspective of key tobacco control stakeholders; and (3) determine key indicators for broad adoption of research products. Results will address research-to-practice gaps by providing a critical window into the process of disseminating evidence-based research tools, products, and science findings in community public health settings. Intended audiences include staff at NIH Institutes and Centers interested in supporting translation/dissemination and implementation science.

OMB approval is requested for one year. There are no costs to respondents other than their time. The total estimated annualized burden hours are 112.

Estimated Annualized Burden Hours
Type of respondent | Data collection type | Number of respondents | Number of responses per respondent | Average burden per response (in hours) | Total annual burden hours
SCTC Scientist | Web Survey | 60 | 1 | 20/60 | 20
Affiliated Partner | Web Survey | 71 | 1 | 20/60 | 24
| Telephone Interview | 21 | 1 | 40/60 | 14
| Script to Schedule Telephone Interview | 7 | 1 | 5/60 | 1
Pilot Project | Telephone Interview | 6 | 1 | 40/60 | 4
Working Group | Telephone Interview | 6 | 1 | 40/60 | 4
Coordinating Center | Telephone Interview | 2 | 1 | 40/60 | 1
PI/Co-PI | Expert Panel | 18 | 1 | 90/60 | 27
| Consent Form | 18 | 1 | 5/60 | 2
| Telephone Script to Schedule Interview | 6 | 1 | 5/60 | 1
| Telephone Interview | 21 | 1 | 40/60 | 14

Dated: September 17, 2014.
Karla Bailey,
NCI Project Clearance Liaison, National Institutes of Health.

[FR Doc. 2014-22586 Filed 9-22-14; 8:45 am]

BILLING CODE 4140-01-P